COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Information and Regulatory Affairs (“OIRA”), of the Office of Management and Budget (“OMB”), for review and comment. The ICR describes the nature of the information collection and its expected costs and burden.

DATES: Comments must be submitted on or before February 21, 2023.

ADDRESSES: Written comments and recommendations for the proposed information collection should be submitted within 30 days of this notice's publication to OIRA, at https://www.reginfo.gov/public/do/PRAMain. Please find this particular information collection by selecting “Currently under 30-day Review—Open for Public Comments” or by using the website's search function. Comments can be entered electronically by clicking on the “comment” button next to the information collection on the “OIRA Information Collections Under Review” page, or the “View ICR-Agency Submission” page. A copy of the supporting statement for the collection of information discussed herein may be obtained by visiting https://www.reginfo.gov/public/do/PRAMain.

In addition to the submission of comments to https://Reginfo.gov as indicated above, a copy of all comments submitted to OIRA may also be submitted to the Commodity Futures Trading Commission (the “Commission” or “CFTC”) by clicking on the “Submit Comment” box next to the descriptive entry for OMB Control No. 3038-0023, at https://comments.cftc.gov/FederalRegister/PublicInfo.aspx.

Or by either of the following methods:

• Mail: Christopher Kirkpatrick, Secretary of the Commission, Commodity Futures Trading Commission, Three Lafayette Centre, 1155 21st Street NW, Washington, DC 20581.

• Hand Delivery/Courier: Same as Mail above.

All comments must be submitted in English, or if not, accompanied by an English translation. Comments submitted to the Commission should include only information that you wish to make available publicly. If you wish the Commission to consider information that you believe is exempt from disclosure under the Freedom of Information Act, a petition for confidential treatment of the exempt information may be submitted according to the procedures established in § 145.9 of the Commission's regulations.¹ The Commission reserves the right, but shall have no obligation, to review, pre-screen, filter, redact, refuse or remove any or all of your submission from https://www.cftc.gov that it may deem to be inappropriate for publication, such as obscene language. All submissions that have been redacted or removed that contain comments on the merits of the ICR will be retained in the public comment file and will be considered as required under the Administrative Procedure Act and other applicable laws, and may be accessible under the Freedom of Information Act.

¹ 17 CFR 145.9.

FOR FURTHER INFORMATION CONTACT: Christopher Cummings, Special Counsel, Market Participants Division, Commodity Futures Trading Commission, (202) 418-5445; or ccummings@cftc.gov, and refer to OMB Control No. 3038-0023.

SUPPLEMENTARY INFORMATION: Title: Registration under the Commodity Exchange Act (OMB Control No. 3038-0023). This is a request for an extension of a currently approved information collection.

Abstract: The information collected under OMB Control No. 3038-0023 is gathered through the use of forms for registration of firms and individuals who are required by the Commodity Exchange Act (“CEA”) to register with the Commission. The CEA requires commodity interest market intermediaries and participants to register, including: Futures commission merchants and introducing brokers (7 U.S.C. 6d); Commodity pool operators and commodity trading advisors (7 U.S.C. 6m(1)); Retail foreign exchange dealers (7 U.S.C. 2(c)); Associated persons (7 U.S.C. 6k); Floor traders or floor brokers (7 U.S.C. 6e); and Swap dealers and major swap participants (7 U.S.C. 6s(a)). The CFTC uses various forms for registration (and withdrawal therefrom) (the “Registration Forms”). OMB Control No. 3038-0023 applies to the Registration Forms for registration of persons other than swap dealers and major swap participants.²

² Forms for registration of swap dealers and major swap participants are the subject of a separate information collection (OMB Control Number 3038-0072).

An agency may not conduct or sponsor, and a person is not required to respond to, a collection of information unless it displays a currently valid OMB control number. On October 18, 2022, the Commission published in the Federal Register notice of the proposed extension of this information collection and provided 60 days for public comment on the proposed extension, 87 FR 63051 (“60-Day Notice”). The Commission did not receive any relevant comments on the 60-Day Notice.

Burden Statement: The Commission is revising its burden estimate for this collection to reflect its estimate of the current number of CFTC registrants subject to the requirements of Part 162 regulations. The respondent burden for this collection is estimated to be as follows:

Estimated Number of Respondents: 78,055.

Estimated Total Annual Burden Hours: 7,852 hours.

Frequency of Collection: Periodically.

There are no capital costs or operating and maintenance costs associated with this collection.

(Authority: 44 U.S.C. 3501 et seq.)

Dated: January 17, 2023.
Robert Sidman,
Deputy Secretary of the Commission.

[FR Doc. 2023-01054 Filed 1-19-23; 8:45 am]

BILLING CODE 6351-01-P